COMMITTEE FOR PURCHASE FROM PEOPLE WHO ARE BLIND OR SEVERELY DISABLED

Procurement List; Additions and Deletions

AGENCY: Committee for Purchase From People Who Are Blind or Severely Disabled.

ACTION: Additions to the procurement list.

SUMMARY: This action adds product(s) and service(s) to the Procurement List that will be furnished by nonprofit agencies employing persons who are blind or have other severe disabilities.

DATES: Date added to and deleted from the Procurement List: May 01 and 08, 2022.

ADDRESSES: Committee for Purchase From People Who Are Blind or Severely Disabled, 1401 S Clark Street, Suite 715, Arlington, Virginia, 22202-4149.

FOR FURTHER INFORMATION CONTACT: Michael R. Jurkowski, Telephone: (703) 785-6404 or email CMTEFedReg@AbilityOne.gov.

SUPPLEMENTARY INFORMATION:

Additions

On 12/17/2021, 1/14/2022, and 1/28/2022, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Service Type: Custodial and Related Services

Mandatory for: GSA PBS Region 4, Carroll A. Campbell Jr. U.S. Courthouse, Greenville, SC

Designated Source of Supply: SC Vocations & Individual Advancement, Inc., Greenville, SC

Contracting Activity: PUBLIC BUILDINGS SERVICE, PBS R4 CAROLINAS CONTRACTS

The Committee finds good cause to dispense with the 30-day delay in the effective date normally required by the Administrative Procedure Act. See 5 U.S.C. 553(d). This addition to the Committee's Procurement List is effectuated because of the expiration of the General Services Administration (GSA), Custodial and Related Services, GSA Reg 4, Carroll A. Campbell Courthouse, Greenville, SC contract. The Federal customer contacted and has worked diligently with the AbilityOne Program to fulfill this service need under the AbilityOne Program. To avoid performance disruption, and the possibility that GSA will refer its business elsewhere, this addition must be effective on May 1, 2022, ensuring timely execution for a May 1, 2022, start date while still allowing 23 days for comment. The Committee published a notice of proposed Procurement List addition in the Federal Register on January 28, 2022 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Product(s)

NSN(s)—Product Name(s):

MR 16550—Automatic Umbrella

MR 16551—Oversize Automatic Umbrella

MR 16552—Family Golf Umbrella

MR 16553—Children's Umbrella

MR 10808—Ice Cream Bowl, Includes Shipper 20808

MR 10817—Worklight, Includes Shipper 20817

MR 10820—Mushroom Saver, Includes Shipper 20820

MR 10822—Popcorn Saver, Includes Shipper 20822

MR 10823—Popcorn Saver, Includes Shipper 20822

MR 10818—Pig Out Car Go Container, Includes Shipper 20818

MR 10829—Container, Grapes To Go, Includes Shipper 20829

MR 10828—Container, Olive Keeper, Includes Shipper 20828

Designated Source of Supply: Winston-Salem Industries for the Blind, Inc, Winston-Salem, NC

Contracting Activity: Military Resale-Defense Commissary Agency

Mandatory for: The requirements of military commissaries and exchanges in accordance with the 41 CFR 51-6.4

Distribution: C-List

Michael R. Jurkowski,
Acting Director, Business Operations.

[FR Doc. 2022-07600 Filed 4-7-22; 8:45 am]

BILLING CODE 6353-01-P